DEPARTMENT OF COMMERCE

National Oceanic and Atmospheric Administration

RIN 0648-XQ79

New England Fishery Management Council; Public Meeting

AGENCY: National Marine Fisheries Service (NMFS), National Oceanic and Atmospheric Administration (NOAA), Commerce.

ACTION: Notice of a public meeting.

SUMMARY: The New England Fishery Management Council's (NEFMC) Scientific and Statistical Committee (SSC) will host an Ecosystem Based Fisheries Management (EBFM) Workshop for Council members and staff, Plan Development Team members, interested parties and members of the public. The intent of this meeting is to develop a “blueprint” that would inform the Council's efforts to develop an EBFM approach or plan for NEFMC-managed species.

DATES: This meeting will be held on August 26 and August 27, 2009. See SUPPLEMENTARY INFORMATION for specific dates and times.

ADDRESSES: The meeting will be held at the Marriott Hotel, 25 America's Cup Avenue, Newport, RI 02840; telephone: (401) 849-1000; fax: (401) 849-3422.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The meeting will begin at 9 a.m. on Wednesday, August 26, 2009 and recess at 5 p.m., or when business is complete; reconvene at 9 a.m. on Thursday, August 27, 2009 and recess at 3 p.m., or when business is complete.

Special Accommodations

This meeting is physically accessible to people with disabilities. Requests for sign language interpretation or other auxiliary aids should be directed to Paul J. Howard, Executive Director, at 978-465-0492, at least 5 days prior to the meeting date.

Authority: 16 U.S.C. 1801 et seq.

Dated: July 31, 2009.
Tracey L. Thompson,
Acting Director, Office of Sustainable Fisheries, National Marine Fisheries Service.

[FR Doc. E9-18745 Filed 8-5-09; 8:45 am]

BILLING CODE 3510-22-S